DEPARTMENT OF ENERGY

Federal Energy Regulatory Commission

Combined Notice of Filings #1

Take notice that the Commission received the following electric rate filings:

Docket Numbers: ER12-2387-001.

Applicants: Southwest Power Pool, Inc.

Description: Request for Deferral of Commission Action On Docket ER12-2387 to be effective 12/31/9998.

Filed Date: 8/14/12.

Accession Number: 20120814-5115.

Comments Due: 5 p.m. ET 9/4/12.

Docket Numbers: ER12-2447-000.

Applicants: Brookfield Smoky Mountain Hydropower LLC.

Description: Brookfield Smoky Mountain Hydropower LLC, FERC Electric Tariff No. 1 to be effective 10/13/2012.

Filed Date: 8/14/12.

Accession Number: 20120814-5112.

Comments Due: 5 p.m. ET 9/4/12.

Docket Numbers: ER12-2448-000.

Applicants: Chisholm View Wind Project, LLC.

Description: Chisholm View Wind Project, LLC MBR Tariff to be effective 9/15/2012.

Filed Date: 8/14/12.

Accession Number: 20120814-5123.

Comments Due: 5 p.m. ET 9/4/12.

Take notice that the Commission received the following electric securities filings:

Docket Numbers: ES12-51-000.

Applicants: MidAmerican Energy Company.

Description: MidAmerican Energy Company's Application Under Section 204 of the Federal Power Act for Authorization to Issue and Sell Debt Securities.

Filed Date: 8/14/12.

Accession Number: 20120814-5144.

Comments Due: 5 p.m. ET 9/4/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2012.
Nathaniel J. Davis, Sr.,
Deputy Secretary.

[FR Doc. 2012-21136 Filed 8-27-12; 8:45 am]

BILLING CODE 6717-01-P